DEPARTMENT OF HEALTH AND HUMAN SERVICES

Public Meeting of the President's Council on Bioethics

AGENCY: Department of Health and Human Services, Office of Public Health and Science, The President's Council on Bioethics.

ACTION: Notice.

SUMMARY: The President's Council on Bioethics (Edmund D. Pellegrino, MD, Chairman) will hold its thirty-seventh and final meeting. The full agenda will be posted on the Council's Web site at http://www.bioethics.gov prior to the meeting. Publications issued by the Council to date include: Human Cloning and Human Dignity: An Ethical Inquiry (July 2002); Beyond Therapy: Biotechnology and the Pursuit of Happiness (October 2003); Being Human: Readings from the President's Council on Bioethics (December 2003); Monitoring Stem Cell Research (January 2004); Reproduction and Responsibility: The Regulation of New Biotechnologies (March 2004); Alternative Sources of Human Pluripotent Stem Cells: A White Paper (May 2005); Taking Care: Ethical Caregiving in Our Aging Society (September 2005); Human Dignity and Bioethics: Essays Commissioned by the President's Council on Bioethics (March 2008); The Changing Moral Focus of Newborn Screening: An Ethical Analysis by The President's Council on Bioethics (December 2008); and Controversies in the Determination of Death: A White Paper by The President's Council on Bioethics (December 2008). Reports are forthcoming on organ transplantation, health care reform, and the future of national bioethics commissions.

DATES: The meeting will take place Thursday, June 25, 2009, from 9 a.m. to 3 p.m., ET; and Friday, June 26, 2009, from 9 a.m. to 11:45 a.m., ET.

ADDRESSES: The Ritz-Carlton, Washington, DC, 1150 22nd Street, NW., Washington, DC 20037. Phone 202-835-0500.

FOR FURTHER INFORMATION CONTACT: Ms. Diane M. Gianelli, Director of Communications, The President's Council on Bioethics, 1425 New York Avenue, NW., Suite C100, Washington, DC 20005. Telephone: 202/296-4669. E-mail: info@bioethics.gov. Web site: http://www.bioethics.gov.

SUPPLEMENTARY INFORMATION: The meeting agenda will be posted at http://www.bioethics.gov. The Council encourages public input, either in person or in writing. At this meeting, interested members of the public may address the Council, beginning at 11:30 a.m., on Friday, June 26. Comments are limited to no more than five minutes per speaker or organization. As a courtesy, please inform Ms. Diane M. Gianelli, Director of Communications, in advance of your intention to make a public statement, and give your name and affiliation. To submit a written statement, mail or e-mail it to Ms. Gianelli at one of her contact addresses given above.

Dated: May 18, 2009.
F. Daniel Davis,
Executive Director, The President's Council on Bioethics.

[FR Doc. E9-12538 Filed 5-28-09; 8:45 am]

BILLING CODE 4154-06-P